DEPARTMENT OF DEFENSE

GENERAL SERVICES ADMINISTRATION

NATIONAL AERONAUTICS AND SPACE ADMINISTRATION

48 CFR Part 1

[FAC 2005-85; Item VII; Docket No. 2015-0052; Sequence No. 4]

Federal Acquisition Regulation; Technical Amendment

AGENCY: Department of Defense (DoD), General Services Administration (GSA), and National Aeronautics and Space Administration (NASA).

ACTION: Final rule.

SUMMARY: This document makes an amendment to the Federal Acquisition Regulation (FAR) in order to make an editorial change.

DATES: Effective: December 4, 2015.

FOR FURTHER INFORMATION CONTACT: The Regulatory Secretariat Division (MVCB), 1800 F Street NW., 2nd Floor, Washington, DC 20405, 202-501-4755, for information pertaining to status or publication schedules. Please cite FAC 2005-85, Technical Amendments.

SUPPLEMENTARY INFORMATION: In order to update a certain element in 48 CFR part 1 this document makes an editorial change to the FAR.

List of Subject in 48 CFR Part 1

Government procurement.

Dated: November 20, 2015.
William Clark,
Director, Office of Government-wide Acquisition Policy, Office of Acquisition Policy, Office of Government-wide Policy.

Therefore, DoD, GSA, and NASA amend 48 CFR part 1 as set forth below:

PART 1—FEDERAL ACQUISITION REGULATIONS SYSTEM

1. The authority citation for 48 CFR part 1 continues to read as follows:

Authority: 40 U.S.C. 121(c); 10 U.S.C. chapter 137; and 51 U.S.C. 20113.

1.106 [Amended]

2. Amend section 1.106 in the table following the introductory text by adding in numerical sequence “52.244-2” and its corresponding OMB Control Number “9000-0149”.

[FR Doc. 2015-30462 Filed 12-3-15; 8:45 am]

BILLING CODE 6820-EP-P